DEPARTMENT OF VETERANS AFFAIRS

Performance Review Board Members

AGENCY: Department of Veterans Affairs.

ACTION: Notice.

SUMMARY: Under the provisions of 5 U.S.C. 4314(c)(4) agencies are required to publish a notice in the Federal Register of the appointment of Performance Review Board (PRB) members. This notice updates the VA Performance Review Board of the Department of Veterans Affairs that was published in the Federal Register on October 30, 2007 (72 FR 61421).

DATES: Effective Date: October 9, 2008.

FOR FURTHER INFORMATION CONTACT: Shonna James, Director, Executive Resources, Office of Human Resources Management (052), Department of Veterans Affairs, 810 Vermont Avenue, NW, Washington, DC 20420, (202) 461-7089.

VA Performance Review Board (PRB)

Willie L. Hensley, Executive in Charge of the Office of the Assistant Secretary for Human Resources and Administration (Chairperson)

Thomas G. Bowman, Chief of Staff

Sharon K. Barnes, Deputy Chief of Staff

Kenneth M. Greenberg, Executive Secretary to the Department (Alternate)

Michael Walcoff, Deputy Under Secretary for Benefits, Veterans Benefits Administration

Geraldine Breakfield, Associate Deputy Under Secretary for Management (Alternate)

Louise R. Van Diepen, VHA Chief of Staff

Gerald M. Cross, M.D. FAAFP, Principal Deputy Under Secretary for Health, Veterans Health Administration (Alternate)

William F. Feeley, Deputy Under Secretary for Health for Operations and Management, Veterans Health Administration (Alternate)

William F. Tuerk, Under Secretary for Memorial Affairs

Steve L. Muro, Director, Field Programs Service (Alternate)

James J. O'Neill, Assistant Inspector General for Investigations

Paul J. Hutter, General Counsel

John H. Thompson, Deputy General Counsel (Alternate)

Joseph Bauernfeind, Director, Office of Business Oversight

Robert T. Howard, Assistant Secretary for Information Technology

Karen W. Pane, Deputy Assistant Secretary for Planning and Evaluation

Irene Trowell-Harris, Director, Center for Women Veterans

Patricia C. Adams, Non-VA Executive

Veterans Benefits Administration PRB

Michael Walcoff, Deputy Under Secretary for Benefits

Geraldine V. Breakfield, Associate Deputy Under Secretary for Management

R. Keith Pedigo, Associate Deputy Under Secretary for Policy and Program Management

Diana M. Rubens, Associate Deputy Under Secretary for Field Operations

Jimmy A. Norris, Chief Financial Officer

Michael A. Dusenbery, Director, Southern Area Office

Sharon K. Barnes, Deputy Chief of Staff, Office of the Secretary

Jacy Thurmond, Jr., Senior Advisor to the Deputy Commissioner of the Social Security Administration, U.S. Social Security Administration

Veterans Health Administration PRB

Gerald M. Cross, MD, FAAFP, Principal Deputy Under Secretary for Health, Co-Chair

William F. Feeley, Co-Chair, Deputy Under Secretary for Health for Operations and Management

Madhulika Agarwal, MD, Chief Patient Care Services Officer

Michael E. Moreland, Network Director, VISN 4

Lawrence A. Biro, Network Director, VISN 7

Everett A. Chasen, Chief Communications Officer

Joleen M. Clark, Chief, Workforce Management and Consulting Officer

Stephan D. Fihn, MD, Chief, Quality and Performance Officer

Glen W. Grippen, Network Director, VISN 19

W. Paul Kearns III, Chief Financial Officer

Craig B. Luigart, VHA Chief Information Officer

Caitlin O'Brien, Chief Compliance and Business Integrity Officer

Robert A. Petzel, MD, Network Director, VISN 23

James W. Roseborough, Network Director, VISN 12

Patricia Vandenberg, Assistant Deputy Under Secretary for Health for Policy and Planning

Louise R. Van Diepen, VHA Chief of Staff

Nevin M. Weaver, Network Director, VISN 8

Marla Weston, PhD, Deputy Director, Workforce Management and Consulting Office (Ex Officio)

Joseph A. Williams Jr, Assistant Deputy Under Secretary for Health for Operations and Management

Maureen E. Gormley, Chief Operating Officer, National Institutes of Health Clinical Center

Ken Greenberg, Executive Secretary to the Department

Sharon K. Barnes, Deputy Chief of Staff (Alternate)

Office of Inspector General PRB

Thomas J. Howard, Deputy Inspector General, National Air and Space Administration, Office of Inspector General

Elliot P. Lewis, Assistant Inspector General for Audit, Department of Labor, Office of Inspector General

Norbert E. Vint, Deputy Inspector General and Assistant Inspector General for Investigations, Office of Personnel Management, Office of Inspector General

Dated: October 6, 2008.
Gordon H. Mansfield,
Deputy Secretary of Veterans Affairs.

[FR Doc. E8-24138 Filed 10-8-08; 8:45 am]

BILLING CODE 8320-01-P